DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the Army Education Advisory Committee (“the Committee”).

FOR FURTHER INFORMATION CONTACT: Jim Freeman, Advisory Committee Management Officer for the Department of Defense, 703-692-5952.

SUPPLEMENTARY INFORMATION: The Committee's charter is being renewed in accordance with the Federal Advisory Committee Act (FACA) of 1972 (5 U.S.C., Appendix, as amended) and 41 CFR 102-3.50(d). The Committee's charter and contact information for the Committee's Designated Federal Officer (DFO) can be found at http://www.facadatabase.gov/. The Committee focuses on matters pertaining to the educational, doctrinal, and research policies and activities of the U.S. Army's educational programs, to include the U.S. Army's joint professional military education programs. The Committee provides the Secretary of Defense and the Deputy Secretary of Defense, through the Secretary of the Army and the Chief of Staff of the U.S. Army, independent advice and recommendations across the spectrum of educational policies, school curricula, educational philosophy and objectives, program effectiveness, facilities, staff and faculty, instructional methods, and other aspects of the organization and management of these programs. In addition, the Committee provides independent advice and recommendations on matters pertaining to the Army Historical Program and the role and mission of the U.S. Army Center of Military History. The Committee is composed of no more than 15 members, and its membership includes: Not more than 13 individuals who are eminent authorities in the fields of defense, management, leadership, and academia, including those who are deemed to be historical scholars; the Chief Historian of the Army, U.S. Army, Center of Military History; and the Assistant Deputy Chief of Staff, G-3/5/7 for U.S. Army Training and Doctrine Command, who serves as a non-voting member of the Committee. All members are appointed to provide advice on behalf of the Government on the basis of their best judgment without representing any particular point of view and in a manner free from conflict of interest. Except for reimbursement of official Committee-related travel and per diem, Committee members serve without compensation.

The DoD may establish subcommittees, task forces, or working groups to support the Committee. All subcommittees operate under the provisions of FACA and the Government in the Sunshine Act, will not work independently of the Committee, report all findings to the Committee for full deliberation and discussion, and have no authority to make decisions and recommendations, verbally or in writing, on behalf of the Committee. No subcommittee or any of its members can update or report, verbally or in writing, directly to the DoD or any Federal officers or employees.

The Committee's DFO, pursuant to DoD policy, must be a full-time or permanent part-time DoD employee, and must be in attendance for the duration of each and every Committee or subcommittee meeting. The public or interested organizations may submit written statements to the Committee membership about the Committee's mission and functions. Such statements may be submitted at any time or in response to the stated agenda of planned Committee meetings. All written statements must be submitted to the Committee's DFO who will ensure the written statements are provided to the membership for their consideration.

Dated: June 24, 2016.
Aaron Siegel,
Alternate OSD Federal Register Liaison Officer, Department of Defense.

[FR Doc. 2016-15402 Filed 6-28-16; 8:45 am]

BILLING CODE 5001-06-P